DEPARTMENT OF HOMELAND SECURITY

Federal Emergency Management Agency

[Docket ID: FEMA-2009-0001]

Agency Information Collection Activities: Submission for OMB Review; Comment Request; 1660-0095

AGENCY: Federal Emergency Management Agency, DHS.

ACTION: Notice; 30-day notice and request for comments; revision of a currently approved information collection; OMB No. 1660-0095; No Form.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before November 23, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: National Flood Insurance Program Claims Appeal Process.

Type of Information Collection: Revision of a currently approved information collection.

OMB Number: 1660-0095.

Form Titles and Numbers: No Forms.

Abstract: Section 205 of The Bunning-Bereuter-Blumenauer Flood Insurance Reform Act of 2004, Public Law 108-264, 42 U.S.C. 4011 note, requires that FEMA establish an appeals process to allow respondents to request a review of an unsatisfactory decision on flood claims. Respondents will submit an appeal request and FEMA will use this information to make a decision on if the unsatisfactory decision made on a flood claim should be modified.

Affected Public: Individuals or households; Business or other for profit.

Estimated Number of Respondents: 900.

Frequency of Response: Once.

Estimated Average Hour Burden per Respondent: 2 Hours.

Estimated Total Annual Burden Hours: 1800 Hours.

Estimated Cost: There is no annual reporting and recordkeeping cost associated with this collection.

Corrections: The 60-day notice for the collection of information entitled Hazard Mitigation Grant Program Application and Reporting, which published on January 30, 2007 at 72 FR 4287, listed the incorrect OMB Number. It should have listed 1660-0076 instead of 1660-0095.

The 60-day notice for the collection of information entitled National Flood Insurance Program Claims Appeal Process, which published on July 22, 2009 at 74 FR 36241 listed an incorrect citation. This 30-day notice corrects the citation. The 60-day notice abstract also incorrectly cited the title of the Act. It should have listed the Bunning-Bereuter-Blumenauer Flood Insurance Reform Act of 2004 instead of The Bunning-Blumenauer Flood Insurance Act of 2004.

Daisy Mitchell,
Acting Director, Records Management Division, Office of Management, Federal Emergency Management Agency, Department of Homeland Security.

[FR Doc. E9-25451 Filed 10-22-09; 8:45 am]

BILLING CODE 9111-52-P